Title 3—

The President

Proclamation 8940 of March 15, 2013

National Poison Prevention Week, 2013

By the President of the United States of America

A Proclamation

For more than 50 years, Americans have marked National Poison Prevention Week by highlighting the steps we can take to protect ourselves and our loved ones from accidental poisoning. This week, we carry that tradition forward by encouraging common-sense precautions and raising awareness about how to respond in a poison emergency.

Thanks to greater public awareness and stronger safeguards, we have dramatically reduced childhood death rates from accidental poisoning—but work remains. To keep our kids safe, parents and caregivers can take action by storing medicine and hazardous products out of their children's reach and removing unused or expired medications from their homes. Anyone who believes a child or loved one has been poisoned should call the National Poison Help Line immediately at 1-800-222-1222.

Today, the majority of unintentional poisoning deaths are caused by overdoses involving prescription drugs, including painkillers. As my Administration works to address this serious public health issue, all of us can take part by using, storing, and disposing of medications correctly, and by speaking out about drug misuse and abuse in our communities. For more resources on preventing drug overdose and other forms of poisoning, visit www.PoisonHelp.HRSA.gov. Information about safe drug disposal is available at www.DEAdiversion.USDOJ.gov.

To encourage Americans to learn more about the dangers of accidental poisonings and to take appropriate preventative measures, the Congress, by joint resolution approved September 26, 1961, as amended (75 Stat. 681) has authorized and requested the President to issue a proclamation designating the third week of March each year as “National Poison Prevention Week.”

NOW, THEREFORE, I, BARACK OBAMA, President of the United States of America, do hereby proclaim March 17 through March 23, 2013, as National Poison Prevention Week. I call upon all Americans to observe this week by taking actions to protect their families from hazardous household materials and misuse of prescription medicines.

IN WITNESS WHEREOF, I have hereunto set my hand this fifteenth day of March, in the year of our Lord two thousand thirteen, and of the Independence of the United States of America the two hundred and thirty-seventh.

[FR Doc. 2013-06505

Filed 3-19-13; 8:45 am]

Billing code 3295-F3